DEPARTMENT OF TRANSPORTATION

Federal Motor Carrier Safety Administration

[Docket No. FMCSA-2005-22905]

Qualification of Drivers; Exemption Applications; Diabetes

AGENCY: Federal Motor Carrier Safety Administration (FMCSA), DOT.

ACTION: Notice of applications for exemption from the diabetes standard; request for comments.

SUMMARY: FMCSA announces receipt of applications from six individuals for exemptions from the prohibition against persons with insulin-treated diabetes mellitus (ITDM) operating commercial motor vehicles (CMVs) in interstate commerce. If granted, the exemptions would enable these individuals with ITDM to operate as drivers of commercial motor vehicles in interstate commerce.

DATES: Comments must be received on or before January 18, 2006.

ADDRESSES: You may submit comments by any of the following methods. Please label your comments with DOT DMS Docket Number FMCSA-2005-22905.

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the on-line instructions for submitting comments.

All submissions must include the agency name and docket number for this notice. Note that all comments received will be posted without change to http://dms.dot.gov, including any personal information provided. Please see the Privacy Act heading under Regulatory Notices. To read background documents or comments received, go to http://dms.dot.gov or to Room PL-401 on the plaza level of the Nassif Building, 400 Seventh Street, SW., Washington, DC between 9 a.m. and 5 p.m. Monday through Friday, except Federal holidays.

FOR FURTHER INFORMATION CONTACT: Dr. Mary D. Gunnels, Chief, Physical Qualifications Division, (202) 366-4001, FMCSA, Department of Transportation, 400 Seventh Street, SW., Washington, DC 20590-0001. Office hours are from 8 a.m. to 5 p.m., e.t., Monday through Friday, except Federal holidays.

SUPPLEMENTARY INFORMATION:

Public Comments: The DMS is generally available 24 hours each day, except when announced system maintenance requires a brief interruption in service. You can get electronic submission and retrieval help guidelines under the “help” section of the DMS Web site. If you want us to notify you that we received your comments, please include a self-addressed, stamped envelope or postcard. An acknowledgement page appears after submitting comments on-line and can be printed to document submission of comments.

Privacy Act: Anyone is able to search the electronic form of all comments received into any of our dockets by the name of the individual submitting the comment (or signing the comment, if submitted on behalf of an association, business, labor union, etc.). You may review the Department of Transportation's complete Privacy Act statement in the Federal Registerpublished April 11, 2000 (65 FR 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The six individuals listed in this notice have recently requested an exemption from the diabetes prohibition in 49 CFR 391.41(b)(3), which applies to drivers of CMVs in interstate commerce. Accordingly, the agency will evaluate the qualifications of each applicant to determine whether granting the exemption will achieve the required level of safety mandated by the statute.

Qualifications of Applicants

Daryle W. Belcher

Mr. Belcher, 63, has had ITDM since 2000. He has had no hypoglycemic reactions resulting in loss of consciousness, requiring the assistance of another person, or resulting in impaired cognitive function that occurred without warning in the past 5 years. His endocrinologist examined him in 2005 and stated, “He has been extremely willing to properly monitor and manage his diabetes.” Mr. Belcher meets the requirements of the vision standard at 49 CFR 391.41(b)(10). His ophthalmologist examined him in 2005 and certified that he does not have diabetic retinopathy. He holds a Class B Commercial Driver's License (CDL) from Texas.

William H. Gardner

Mr. Gardner, 34, has had ITDM since 1981. He has had no hypoglycemic reactions resulting in loss of consciousness, requiring the assistance of another person, or resulting in impaired cognitive function that occurred without warning in the past 5 years. His endocrinologist examined him in 2005 and stated, “He is stable on the current insulin regimen, understands diabetes management and monitoring, and is able to drive a commercial motor vehicle safely.” He holds a Class A CDL from California.

Roy G. Hill

Mr. Hill, 43, has had ITDM since 1975. He has had no hypoglycemic reactions resulting in loss of consciousness, requiring the assistance of another person, or resulting in impaired cognitive function that occurred without warning in the past 5 years. His endocrinologist examined him in 2005 and stated, “Mr. Hill has demonstrated the ability to monitor and manage his diabetes.” Mr. Hill meets the requirements of the vision standard at 49 CFR 391.41 (b)(10). His ophthalmologist examined him in 2005 and certified that there is no evidence of diabetic retinopathy He holds a Class A CDL from Kentucky.

Anthony D. Izzi

Mr. Izzi, 45, has had ITDM since 2000. He has had no hypoglycemic reactions resulting in loss of consciousness, requiring the assistance of another person, or resulting in impaired cognitive function that occurred without warning in the past 5 years. His endocrinologist examined him in 2005 and stated, “He demonstrates willingness to properly monitor and manage his diabetes without difficulty and with success.” Mr. Izzi meets the requirements of the vision standard at 49 CFR 391.41 (b)(10). His ophthalmologist examined him in 2005 and certified that he does not have diabetic retinopathy He holds an operator's license from Rhode Island.

Ronald D. Paul

Mr. Paul, 58, has had ITDM since 1980. He has had no hypoglycemic reactions resulting in loss of consciousness, requiring the assistance of another person, or resulting in impaired cognitive function that occurred without warning in the past 5 years. His endocrinologist examined him in 2005 and stated, “Mr. Paul has demonstrated willingness to properly monitor and manage his diabetes.” Mr. Paul meets the requirements of the vision standard at 49 CFR 391.41 (b)(10). His ophthalmologist examined him in 2005 and certified that he does have stable mild background diabetic retinopathy. He holds a Class B CDL from New Hampshire.

Kenneth L. Pogue

Mr. Pogue, 46, has had ITDM since 1997. He has had no hypoglycemic reactions resulting in loss of consciousness, requiring the assistance of another person, or resulting in impaired cognitive function that occurred without warning in the past 5 years. His endocrinologist examined him in 2005 and stated, “Mr. Pogue is well educated regarding his diabetes and its management. Mr. Pogue has demonstrated willingness to properly monitor and manage his diabetes.” Mr. Pogue meets the requirements of the vision standard at 49 CFR 391.41(b)(10). His ophthalmologist examined him in 2005 and stated, “There was no evidence of diabetic retinopathy present.” He holds a Class A CDL from Missouri.

Request for Comments

In accordance with 49 U.S.C. 31315 and 31136(e), the FMCSA requests public comment from all interested persons on the exemption petitions described in this notice. We will consider all comments received before the close of business on the closing date indicated earlier in the notice.

FMCSA notes that Section 4129 of the Safe, Accountable, Flexible and Efficient Transportation Equity Act: A Legacy for Users (SAFETEA-LU) requires the Secretary to begin within 90 days of enactment to revise the September 3, 2003 (68 FR 52441), notice of final disposition, to allow drivers who use insulin to treat diabetes to operate CMVs in interstate commerce.¹ The revision must provide for individual assessment of drivers with diabetes mellitus, and be consistent with the criteria described in section 4018 of TEA-21.

¹ Section 4129(a) refers to the 2003 Notice as a “final rule.” However, the 2003 Notice did not issue a “final rule,” but did establish the procedures and standards for issuing exemptions for drivers with ITDM.

Section 4129 requires two substantive changes to be made in the current exemption process set out in the September 3, 2003 Notice. As required by section 4129(b) and (c), the changes are: (1) Elimination of the requirement for three years of experience operating CMVs while being treated with insulin; and (2) establishment of a specified minimum period of insulin dose to demonstrate stable control of diabetes before being allowed to operate a CMV.

In order to accomplish these changes within the 90-day time frame established by section 4129, FMCSA made immediate revisions to the diabetes exemption program established by the September 3, 2003 Notice. These revisions were those necessary to respond to the specific changes mandated by section 4129 while continuing to ensure that operation of CMVs by drivers with ITDM will achieve the necessary level of safety as also required by section 4129(a).

Section 4129(d) also directed FMCSA to ensure that drivers of CMVs with ITDM are not held to a higher standard than other drivers, with the exception of limited operating, monitoring and medical requirements that are deemed medically necessary. FMCSA concluded that all of the operating, monitoring and medical requirements set out in the September 3, 2003 Notice, except as modified, were in compliance with section 4129(d). All of the requirements set out in the September 3, 2003 Notice, except as modified in the Notice in the Federal Register on November 8, 2005 (70 FR 67777), remain in effect.

Issued on: December 13, 2005.
Annette M. Sandberg,
Administrator.

[FR Doc. E5-7494 Filed 12-16-05; 8:45 am]

BILLING CODE 4910-EX-P